DEPARTMENT OF HEALTH AND HUMAN SERVICES

National Institutes of Health

Center for Scientific Review; Amended Notice of Meeting

Notice is hereby given of a change in the meeting of the Drug Discovery and Molecular Pharmacology Study Section, October 5, 2006, 8 a.m. to October 6, 2006, 5 p.m., Wyndham City Center Hotel, 1143 New Hampshire Ave., NW., Washington, DC 20037 which was published in the Federal Register on September 15, 2006, 71 FR 54511-54512.

The meeting will be held at the Red Lion Hotel on Fifth Avenue, 1415 Fifth Avenue, Seattle, WA 98101. The meeting dates and time remain the same. The meeting is closed to the public.

Dated: September 28, 2006.
Anna Snouffer,
Acting Director, Office of Federal Advisory Committee Policy.

[FR Doc. 06-8517 Filed 10-5-06; 8:45 am]

BILLING CODE 4140-01-M